DEPARTMENT OF COMMERCE

International Trade Administration

[C-570-105]

Carbon and Alloy Steel Threaded Rod From the People's Republic of China: Notice of Final Results of Countervailing Duty Administrative Review; 2019-2020; Correction

AGENCY: Enforcement and Compliance, International Trade Administration, Department of Commerce.

ACTION: Notice; correction.

SUMMARY: On November 7, 2022, the U.S. Department of Commerce (Commerce) published a notice in the Federal Register regarding the final results of the 2019-2020 administrative review of the countervailing duty (CVD) order on carbon and alloy steel threaded rod from the People's Republic of China. This notice inadvertently misspelled the name of a company that is a cross-owned affiliate of a company subject to the CVD review.

FOR FURTHER INFORMATION CONTACT: Allison Hollander or Thomas Schauer, AD/CVD Operations, Office I, Enforcement and Compliance, International Trade Administration, U.S. Department of Commerce, 1401 Constitution Avenue NW, Washington, DC 20230; telephone: (202) 482-2805 or (202) 482-0410, respectively.

SUPPLEMENTARY INFORMATION:

Correction

In the Federal Register of November 7, 2022, in footnote 2 of the chart on page 67017, Commerce misspelled the name of Haiyan County Brother Paper Industry Co., Ltd. (Brother Paper), as “Haiyan County Brothers Paper Industry Co., Ltd.”

Background

In the Final Results of the CVD administrative review covering the 2019-2020 period of review, Commerce calculated a rate for Zhejiang Junyue Standard Part Co., Ltd (Junyue).¹ Brother Paper submitted a response to our questionnaire, identifying itself as “Haiyan County Brother Paper Industry Co., Ltd.,” in its narrative as well as in its business license and articles of association.² In the Final Results, we determined that Brother Paper is cross-owned with Junyue.³ With the issuance of this notice of correction, we confirm that the correct spelling of Brother Paper's name is “Haiyan County Brother Paper Industry Co., Ltd.”

¹ See Carbon and Alloy Steel Threaded Rod from the People's Republic of China: Final Results of Countervailing Duty Administrative Review; 2019-2020, 87 FR 67016, 67017 (November 7, 2022) (Final Results).

² See Brother Paper's Letter, “Carbon and Alloy Steel Threaded Rod from the People's Republic of China—Section III Questionnaire,” dated September 20, 2021, at 1 and Exhibit 3.

³ See Final Results, 87 FR at 67017.

Notification to Interested Parties

This notice is issued and published in accordance with sections 751(a)(1) and 777(i) of the Tariff Act of 1930, as amended.

Dated: November 16, 2022.
Lisa W. Wang,
Assistant Secretary for Enforcement and Compliance.

[FR Doc. 2022-25407 Filed 11-21-22; 8:45 am]

BILLING CODE 3510-DS-P